POSTAL SERVICE

International Product Change—Inbound International Tracked Delivery Service

AGENCY: Postal Service™.

ACTION: Notice.

SUMMARY: The Postal Service gives notice of filing a request with the Postal Regulatory Commission to add Inbound International Tracked Delivery Service to the list of International Ancillary Services in the Competitive Product List in the Mail Classification Schedule, and to add Inbound International Tracked Delivery Service to the list of Optional Features for Inbound Letter Post Small Packets and Bulky Letters in the Mail Classification Schedule.

DATES: Date of notice: January 14, 2022.

FOR FURTHER INFORMATION CONTACT: Christopher C. Meyerson, (202) 268-7820.

SUPPLEMENTARY INFORMATION: The United States Postal Service® hereby gives notice that, pursuant to 39 U.S.C. 3642, on January 7, 2022, it filed with the Postal Regulatory Commission a Request of USPS to Add Inbound International Tracked Delivery Service to the Competitive Product List, [and] Notice of Establishment of Classifications and Rates Not of General Applicability. In the request, the United States Postal Service® seeks to add Inbound International Tracked Delivery Service to the competitive product list and to classify it as an international ancillary service of the Inbound Letter Post Small Packets and Bulky Letters product. Documents are available at www.prc.gov, Docket Nos. MC2022-37 and CP2022-44.

Joshua Hofer,
Attorney, Ethics and Compliance.

[FR Doc. 2022-00678 Filed 1-13-22; 8:45 am]

BILLING CODE 7710-12-P